DEPARTMENT OF AGRICULTURE

Farm Service Agency

Request for Extension of Currently Approved Information Collection

AGENCY: Farm Service Agency, USDA.

ACTION: Notice and Request for Comments.

SUMMARY: In accordance with the Paperwork Reduction Act of 1995, this notice announces the intent of the Farm Service Agency (FSA) to request an extension of a currently approved information collection for a regulation used in support of the FSA Farm Loan Program (FLP). This renewal does not involve any revisions to the program rules.

DATES: Comments on this notice must be received on or before January 16, 2001 to be assured consideration.

FOR FURTHER INFORMATION CONTACT: Phillip Elder, Senior Loan Officer, USDA, Farm Service Agency, Loan Servicing Division, 1400 Independence Avenue, SW., STOP 0523, Washington, DC 20013-0523; Telephone (202) 690-4012; Electronic mail: phillip_elder@wdc.fsa.usda.gov.

SUPPLEMENTARY INFORMATION: Title: 7 CFR, Part 1951-S—Farmer Program Account Servicing Policies.

OMB Control Number: 0560-0161.

Expiration Date of Approval: January 31, 2001.

Type of Request: Extension of Currently Approved Information Collection.

Abstract: The regulations describe the policies and procedures the Agency will use in servicing delinquent FLP loans. Servicing of accounts is administered in accordance with the provisions of the Consolidated Farm and Rural Development Act (CONACT), as amended by the Food Security Act of 1985, the Agriculture Credit Act of 1987, the Food, Agriculture, Conservation and Trade Act of 1990, the Agricultural Credit Improvement Act of 1992, and the Federal Agriculture Improvement and Reform Act of 1996. The CONACT establishes notification by the Agency and response by the borrower and actions on the borrower's request. Specifically, it requires a borrower to document that they can meet family living and farm operating expenses and service all debts, including the loans they are proposing be restructured by the Agency. This information collection is submitted by Agency borrowers to FSA and used by Agency officials to consider a financially distressed or delinquent borrower's request for debt restructuring including rescheduling, reamortization, consolidation, deferral, and write down.

Estimate of Burden: Public reporting burden for this collection of information is estimated to average 47 minutes per response.

Respondents: Individuals or households, businesses or other for profits and farms.

Estimated Number of Respondents: 12,000.

Estimated Number of Responses per Respondent: 1.73.

Estimated Total Annual Burden on Respondents: 16,000 hours.

The Agency is soliciting comments on the burden of all of the above subparts regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology. These comments should be sent to Desk Officer for Agriculture, Office of Information and Regulatory Affairs, Office of Management and Budget, Washington, DC 20503 and to Phillip Elder, Senior Loan Officer, USDA, FSA, Farm Loan Programs, Loan Servicing Division, 1400 Independence Avenue, SW, STOP 0523, Washington, DC 20250-0523.

Comments regarding paperwork burden will be summarized and included in the request for OMB approval of the information collection. All comments will also become a matter of public record.

Signed in Washington, DC, on November 3, 2000.
L.W. Mitchell,
Administrator, Farm Service Agency.

[FR Doc. 00-29053 Filed 11-13-00; 8:45 am]

BILLING CODE 3410-05-P